DEPARTMENT OF TRANSPORTATION

Federal Aviation Administration

14 CFR Part 39

[Docket No. FAA-2008-1214; Directorate Identifier 2007-NM-259-AD]

RIN 2120-AA64

Airworthiness Directives; BAE Systems (Operations) Limited (Jetstream) Model 4101 Airplanes

AGENCY: Federal Aviation Administration (FAA), Department of Transportation (DOT).

ACTION: Notice of proposed rulemaking (NPRM).

SUMMARY: The FAA proposes to supersede an existing airworthiness directive (AD) that applies to all BAE Systems (Operations) Limited (Jetstream) Model 4101 airplanes. The existing AD currently requires operators to determine the number of flight cycles accumulated on each component of the main landing gear (MLG) and the nose landing gear (NLG), and to replace each component that reaches its life limit with a serviceable component. The existing AD also requires operators to revise the Airworthiness Limitations (AWL) section of the Instructions for Continued Airworthiness (ICA) in the aircraft maintenance manual to reflect the new life limits for structurally significant items. This proposed AD would require a new revision of the AWL section of the ICA to incorporate revised life limits for structurally significant items, operational and functional tests of certain systems, and instructions to retain critical ignition source prevention features during configuration changes. This proposed AD results from mandatory continuing airworthiness information (MCAI) originated by an aviation authority of another country. We are proposing this AD to prevent failure of certain structurally significant items, including the MLG and the NLG, which could result in reduced structural integrity of the airplane; and to prevent fuel vapor ignition sources, which could result in fuel tank explosion and consequent loss of the airplane.

DATES: We must receive comments on this proposed AD by December 17, 2008.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact BAE Systems Regional Aircraft, 13850 McLearen Road, Herndon, Virginia 20171; telephone 703-736-1080; e-mail raebusiness@baesystems.com; Internet http://www.baesystems.com/Businesses/RegionalAircraft/index.htm.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: Todd Thompson, Aerospace Engineer, International Branch, ANM-116, Transport Airplane Directorate, FAA, 1601 Lind Avenue, SW., Renton, Washington 98057-3356; telephone (425) 227-1175; fax (425) 227-1149.

SUPPLEMENTARY INFORMATION:

Comments Invited

We invite you to send any written relevant data, views, or arguments about this proposed AD. Send your comments to an address listed under the ADDRESSES section. Include “Docket No. FAA-2008-1214; Directorate Identifier 2007-NM-259-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On September 9, 2005, we issued AD 2005-19-15, amendment 39-14280 (70 FR 55230, September 21, 2005), for all BAE Systems (Operations) Limited (Jetstream) Model 4101 airplanes. That AD requires operators to determine the number of flight cycles accumulated on each component of the main landing gear (MLG) and the nose landing gear (NLG), and to replace each component that reaches its life limit with a serviceable component. The existing AD also requires operators to revise the Airworthiness Limitations (AWL) section of the Instructions for Continued Airworthiness in the aircraft maintenance manual to reflect the new life limits for structurally significant items. That AD resulted from engineering analysis of fleet operations which resulted in more restrictive life limits. We issued that AD to prevent failure of certain structurally significant items, including the MLG and the NLG, which could result in reduced structural integrity of the airplane.

Actions Since Existing AD Was Issued

Since we issued AD 2005-19-15, the European Aviation Safety Agency (EASA), which is the airworthiness authority for the European Union, advises that BAE System (Operations) Limited has issued revised Airworthiness Limitations, Certification Maintenance Requirements, and Critical Design Configuration Control Limitations (CDCCL). The revisions were based on assessments of fuel tank wiring installations. These assessments revealed that fuel vapor ignition sources may remain undetected. Fuel vapor ignition sources, if not corrected, could result in fuel tank explosion and consequent loss of the airplane.

Relevant Service Information

BAE Systems (Operations) Limited has issued Chapters 05-10-10, “Airworthiness Limitations,” 05-10-20, “Certification Maintenance Requirements,” and 05-10-30, “Critical Design Configuration Control Limitations (CDCCL)—Fuel System” of BAE Systems (Operations) Limited Jetstream Series 4100 AMM, Revision 29, dated February 15, 2008. Chapter 05-10-10 revises life limits for structurally significant items. Chapter 05-10-20 includes operational and functional tests of certain systems (e.g., air conditioning, electrical power, fire protection, and flight controls) and the maximum permitted time between those tests to maintain the certificated airworthiness standard of the airplanes. Chapter 05-10-30 includes CDCCLs that provide instructions to retain critical ignition source prevention features during configuration changes that may be caused by modification, repair, or maintenance actions.

Accomplishing the actions specified in the service information is intended to adequately address the unsafe condition. The EASA mandated the service information and issued airworthiness directive 2008-0094, dated May 16, 2008 (referred to after this as “the MCAI”), to ensure the continued airworthiness of these airplanes in the European Union.

FAA's Determination and Requirements of the Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

This proposed AD would supersede AD 2005-19-15 and would continue to require revising the AWL section of the Instructions for Continued Airworthiness in the AMM to reflect the new life limits structurally significant items. This proposed AD would also require revising the AWL section of the Instructions for Continued Airworthiness by incorporating the instructions specified in certain chapters of the service information described previously.

Change to Existing AD

This proposed AD would retain only certain requirements of AD 2005-19-15. As a result, the corresponding paragraph identifiers have changed in this proposed AD, as listed in the following table:

Revised Paragraph Identifier
Requirement in AD 2005-19-15 | Corresponding requirement in this proposed AD
paragraph (l) | paragraph (f).

Costs of Compliance

The following table provides the estimated costs for U.S. operators to comply with this proposed AD.

Estimated Costs
Action | Work hour | Average labor rate per hour | Cost per airplane | Number of U.S.- registered airplanes | Fleet cost
AWL revision (required by AD 2005-19-15) | 1 | $80 | $80 | 3 | $240
AWL revision (new proposed action) | 1 | 80 | 80 | 3 | 240

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14280 (70 FR 55230, September 21, 2005) and adding the following new airworthiness directive (AD):

BAE Systems (Operations) Limited (Formerly British Aerospace Regional Aircraft): Docket No. FAA-2008-1214; Directorate Identifier 2007-NM-259-AD.

Comments Due Date

(a) The FAA must receive comments on this AD action by December 17, 2008.

Affected ADs

(b) This AD supersedes AD 2005-19-15.

Applicability

(c) This AD applies to all BAE Systems (Operations) Limited Model Jetstream 4101 airplanes, certificated in any category.

Unsafe Condition

(d) This AD results from mandatory continuing airworthiness information (MCAI) originated by an aviation authority of another country. We are issuing this AD to prevent failure of certain structurally significant items, including the main landing gear (MLG) and the nose landing gear (NLG), which could result in reduced structural integrity of the airplane; and to prevent fuel vapor ignition sources, which could result in fuel tank explosion and consequent loss of the airplane.

Compliance

(e) You are responsible for having the actions required by this AD performed within the compliance times specified, unless the actions have already been done.

Certain Requirement of AD 2005-19-15

Revise Aircraft Maintenance Manual (AMM)

(f) Within 30 days after October 26, 2005 (the effective date of AD 2005-19-15): Revise the Airworthiness Limitations (AWL) section of the Instructions for Continued Airworthiness of the BAE Systems (Operations) Limited J41 AMM to include the life limits of the components listed in Chapter 05-10-10, Airworthiness Limitations—Description and Operation Section, Revision 23, dated February 15, 2005, of the AMM. This may be accomplished by inserting a copy into the AWL section of the Instructions for Continued Airworthiness. Thereafter, except as provided in paragraph (i) of this AD, no alternative replacement times may be approved for any affected component.

New Requirements of This AD

Revise AWL Section of Instructions for Continued Airworthiness

(g) Within 90 days after the effective date of this AD: Revise the AWL section of the Instructions for Continued Airworthiness by incorporating the instructions of Chapters 05-10-10, “Airworthiness Limitations,” 05-10-20, “Certification Maintenance Requirements,” and 05-10-30, “Critical Design Configuration Control Limitations (CDCCL)—Fuel System” of BAE Systems (Operations) Limited Jetstream Series 4100 AMM, Revision 29, dated February 15, 2008 (hereafter “the service information”). Thereafter, except as provided in paragraph (i) of this AD, no alternative replacement times or inspection intervals may be approved for any affected component. The revised Chapter 05-10-10 replaces the corresponding chapter specified in paragraph (f) of this AD.

(h) Where paragraph 2.A.(2) of the service information specifies that certain landing gear units “must be removed 31st March 2008,” this AD requires compliance within 60 days after the effective date of this AD.

Alternative Methods of Compliance (AMOCs)

(i) The Manager, International Branch, ANM-116, FAA, has the authority to approve AMOCs for this AD, if requested using the procedures found in 14 CFR 39.19. Send information to ATTN: Todd Thompson, Aerospace Engineer, International Branch, ANM-116, Transport Airplane Directorate, FAA, 1601 Lind Avenue, SW., Renton, Washington 98057-3356; telephone (425) 227-1175; fax (425) 227-1149. Before using any approved AMOC on any airplane to which the AMOC applies, notify your appropriate principal inspector (PI) in the FAA Flight Standards District Office (FSDO), or lacking a PI, your local FSDO.

Related Information

(j) European Aviation Safety Agency (EASA) airworthiness directive 2008-0094, dated May 16, 2008, also addresses the subject of this AD.

Issued in Renton, Washington, on November 6, 2008.
Stephen P. Boyd,
Assistant Manager, Transport Airplane Directorate, Aircraft Certification Service.

[FR Doc. E8-27161 Filed 11-14-08; 8:45 am]

BILLING CODE 4910-13-P